DEPARTMENT OF THE TREASURY

Internal Revenue Service

Notice of Open Meeting

ACTION: Notice.

SUMMARY: An open meeting of the Pacific-Northwest Citizen Advocacy Panel will be held in Seattle, Washington.

DATES: The meetings will be held Friday November 16, 2001 and Saturday November 17, 2001.

FOR FURTHER INFORMATION CONTACT: Judi L. Nicholas at 1-888-912-1227 or 206-220-6096.

SUPPLEMENTARY INFORMATION: Notice is hereby given pursuant to Section 10(a)(2) of the Federal Advisory Committee Act, 5 U.S.C. App. (1988) that an open meeting of the Citizen Advocacy Panel will be held Friday November 16, 2001, from 9 a.m. to 4:30 p.m. at the Jackson Federal Building located at 915 Second Avenue, Room 3442, Seattle, WA, 98714; Saturday, November 17, 2001, from 9 a.m. to Noon at the Port of Seattle, Pier 69 Commission Chambers located at 2711 Alaskan Way, Seattle, Washington.

The public is invited to make oral comments. Individual comments will be limited to 10 minutes. If you would like to have the CAP consider a written statement, please call 1-888-912-1227 or 206-220-6096, or write Judi L. Nicholas, CAP Office, 915 2nd Avenue, Room 442, Seattle, WA 98174. Due to limited conference space, notification of intent to attend the meeting must be made with Judi L. Nicholas. Ms. Nicholas can be reached at 1-888-912-1227 or 206-220-6096.

The Agenda will include the following: various IRS issue updates and reports by the CAP sub-groups.

Note: Last minute changes to the agenda are possible and could prevent effective advance notice.

Dated: October 1, 2001.
Cindy Vanderpool,
Director, CAP, Communications and Liaison.

[FR Doc. 01-26808 Filed 10-23-01; 8:45 am]

BILLING CODE 4830-01-P